ENVIRONMENTAL PROTECTION AGENCY

40 CFR Part 300

[EPA-HQ-SFUND-2003-0010; FRL-9903-47-Region-7]

National Oil and Hazardous Substances Pollution Contingency Plan; National Priorities List: Partial Deletion of the Omaha Lead Superfund Site

AGENCY: Environmental Protection Agency (EPA).

ACTION: Final rule.

SUMMARY: The Environmental Protection Agency (EPA) Region 7 announces the deletion of 1,154 residential parcel(s) identified June 4, 2013 Federal Register (FR) Notice of Intent to Partially Delete (NOIPD) of the Omaha Lead Superfund Site (Site) located in Omaha, Nebraska from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the soil of 1,154 residential parcels identified in the June 4, 2013 FR NOIPD. The remaining residential parcels with soil lead levels at or above 400 parts per million (ppm) will remain on the NPL and are not being considered for deletion as part of this action. The EPA and the State of Nebraska, through the Nebraska Department of Environmental Quality, have determined that all appropriate response actions under CERCLA have been completed. However, the deletion of these parcels does not preclude future actions under Superfund.

DATES: This action is effective December 6, 2013.

ADDRESSES: EPA has established a docket for this action under Docket Identification No. EPA-HQ-SFUND-2003-0010. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

EPA Region 7, 11201 Renner Boulevard, Lenexa, Kansas 66219, open from 8 a.m. to 4 p.m.

EPA Public Information Center (north) 3040 Lake Street, Omaha, NE 68111, open from 8 a.m. to 4 p.m. Call (402) 991-9583 to ensure that staff are available; EPA Public Information Center (south) 4909 S. 25th Street, Omaha, NE 68107, open from 8 a.m. to 4 p.m. Call (402) 731-3045 to ensure that staff are available; W. Dale Clark Library, 215 S. 15th Street, Omaha, NE 68102.

FOR FURTHER INFORMATION CONTACT: Pauletta France-Isetts, Remedial Project Manager, U.S. Environmental Protection Agency, Region 7, 8400 Underground Drive, Pillar 253, Kansas City, Missouri 64161, (913) 551-7701, email: france-isetts.pauletta@epa.gov.

SUPPLEMENTARY INFORMATION: The portion of the site to be deleted from the NPL is: 1,154 residential parcels located within the Final Focus Area of the Omaha Lead Site, Omaha, Nebraska. A Notice of Intent for Partial Deletion for this Site was published in the Federal Register on June 4, 2013. Parcel addresses are included as part of docket EPA-HQ-1990-0010, which can be accessed through the http://www.regulations.gov Web site.

The closing date for comments on the Notice of Intent for Partial Deletion was July 5, 2013. No public comments were received. EPA still believes the partial deletion action is appropriate.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: October 28, 2013.
Karl Brooks,
Regional Administrator, Region 7.

For reasons set out in the preamble, 40 CFR part 300 is amended as follows:

PART 300— NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

2. Table 1 of Appendix B to part 300 is amended by revising the entry under Omaha Lead Site, Omaha, Nebraska to read as follows:

Appendix B to Part 300—National Priorities List

Table 1—General Superfund Section
State | Site name | City/County | Notes ᵃ
* * * * * * *
NE | Omaha Lead | Omaha/Douglas | P
* * * * * * *
ᵃ * * *
P = Sites with partial deletion(s).

[FR Doc. 2013-28814 Filed 12-5-13; 8:45 am]

BILLING CODE P